DEPARTMENT OF AGRICULTURE

Animal and Plant Health Inspection Service

7 CFR Part 301

[Docket No. 04-045-1]

Citrus Canker; Quarantined Areas

AGENCY: Animal and Plant Health Inspection Service, USDA.

ACTION: Interim rule and request for comments.

SUMMARY: We are amending the citrus canker regulations by updating the list of areas in the State of Florida quarantined because of citrus canker. To reflect the detection of citrus canker in an area adjacent to but outside of one current quarantined area in Florida, as well as in eight additional counties, we are expanding the boundaries of one existing quarantined area and adding several new areas to the list of quarantined areas. We are also removing portions of three counties from the list of quarantined areas because regular surveys have shown them to have been free of citrus canker for at least 2 years. These actions are necessary to prevent the spread of citrus canker into noninfested areas of the United States and to relieve restrictions that are no longer warranted.

DATES: This interim rule is effective September 14, 2004. We will consider all comments that we receive on or before November 15, 2004.

ADDRESSES: You may submit comments by any of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 04-045-1, Regulatory Analysis and Development, PPD, APHIS, Station 3C71, 4700 River Road Unit 118, Riverdale, MD 20737-1238. Please state that your comment refers to Docket No. 04-045-1.

• E-mail: Address your comment to regulations@aphis.usda.gov. Your comment must be contained in the body of your message; do not send attached files. Please include your name and address in your message and “Docket No. 04-045-1” on the subject line.

• Agency Web Site: Go to http://www.aphis.usda.gov/ppd/rad/cominst.html for a form you can use to submit an e-mail comment through the APHIS Web site.

• Federal eRulemaking Portal: Go to http://www.regulations.gov and follow the instructions for locating this docket and submitting comments.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Ms. Lynn Evans-Goldner, Assistant Staff Officer, Pest Detection and Management Programs, PPQ, APHIS, 4700 River Road Unit 137, Riverdale, MD 20737-1236, (301) 734-7228.

Background

Citrus canker is a plant disease that affects plants and plant parts, including fresh fruit, of citrus and citrus relatives (Family Rutaceae). Citrus canker can cause defoliation and other serious damage to the leaves and twigs of susceptible plants. It can also cause lesions on the fruit of infected plants, which render the fruit unmarketable, and cause infected fruit to drop from the trees before reaching maturity. The aggressive A (Asiatic) strain of citrus canker can infect susceptible plants rapidly and lead to extensive economic losses in commercial citrus-producing areas.

The regulations to prevent the interstate spread of citrus canker are contained in 7 CFR 301.75-1 through 301.75-16 (referred to below as the regulations). The regulations restrict the interstate movement of regulated articles from and through areas quarantined because of citrus canker and provide for the designation of survey areas around quarantined areas. Survey areas undergo close monitoring by Animal and Plant Health Inspection Service (APHIS) and State inspectors for citrus canker and serve as buffer zones against the disease.

Under § 301.75-4(c) of the regulations, any State or portion of a State where an infestation is detected will be designated as a quarantined area and will retain that designation until the area has been free from citrus canker for 2 years.

Paragraph (d) of § 301.75-4 provides that less than an entire State will be designated as a quarantined area only if certain conditions are met. The State must, with certain specified exceptions, enforce restrictions on the intrastate movement of regulated articles from the quarantined area that are at least as stringent as those being enforced on the interstate movement of regulated articles from the quarantined area. The State must also undertake the destruction of all infected plants and trees. Under the regulations in § 301.75-6(c), within 7 days after confirmation that a plant or tree is infected, the State must provide written notice to the owner that the plant or tree must be destroyed. The owner then has 45 days in which to destroy the infected plant or tree. These State-conducted eradication activities within quarantined areas are an integral element of a cooperative State/Federal citrus canker program that, when successfully completed, will result in the eradication of citrus canker and the removal of an area's designation as a quarantined area.

Quarantined Areas

New infestations of citrus canker have been detected on properties adjacent to but outside of one current quarantined area in Florida, as well as in eight additional counties within the State. Therefore, we are expanding the quarantined area in Broward and Miami-Dade Counties to include parts of Monroe and Palm Beach Counties, and adding quarantined areas in DeSoto, Hendry, Highlands, Lee, Manatee, Orange, Palm Beach, and Sarasota Counties. The State of Florida has placed these new areas under State quarantine and is enforcing restrictions on the intrastate movement of regulated articles from these quarantined areas. We have determined that Florida's restrictions on the intrastate movement of regulated articles from the quarantined areas are at least as stringent as those on the interstate movement of regulated articles from the quarantined areas. Therefore, as provided in § 301.75-4(d), we are designating areas less than the entire State as quarantined areas. An exact description of the quarantined areas can be found in the rule portion of this document.

Areas Removed From Quarantine

In this interim rule, we are removing portions of Collier, Hendry, and Manatee Counties from the list of quarantined areas. As previously noted, the regulations provide that any State or portion of a State where an infestation is detected will be designated as a quarantined area and will retain that designation until the area has been free from citrus canker for 2 years. Regular and complete surveys of each of the areas we are removing from the list of quarantined areas have been conducted approximately every 90 days over a period of at least 2 years since citrus canker was first detected. The areas have been free of citrus canker for a period of at least 2 years and may thus be removed from the list of quarantined areas.

The necessary surveys for citrus canker have been conducted by APHIS and State inspectors, including surveys of citrus trees located in both commercial groves and at residential properties. In addition, any wild citrus known to be present in the area has also been surveyed. Although not required as a condition of declaring eradication in an area, in this case all abandoned citrus orchards have also been removed. Abandoned citrus groves present a challenge in conducting surveys; thus the removal of these groves increases our confidence that citrus canker is no longer present in this area.

Therefore, we are amending the regulations by removing the Sunniland North area in Collier County, FL, the Seminole East and West and Siboney areas in Hendry County, FL, and the Bradenton area of Manatee County, FL, from the list of quarantined areas in § 301.75-4(a). This action removes restrictions on the interstate movement of regulated articles from and through these areas of Florida.

Immediate Action

Immediate action is necessary to help prevent the spread of citrus canker to noninfected areas of the United States. This rule will also remove restrictions on the interstate movement of regulated articles from the portions of Collier, Hendry, and Manatee Counties, FL, that we are removing from the list of quarantined areas. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

We are amending the citrus canker regulations by updating the list of areas in the State of Florida quarantined because of citrus canker. Due to detections of citrus canker adjacent to but outside of one current quarantined area in Florida, as well as in eight additional counties, we are expanding the boundaries of some existing quarantined areas and adding new areas to the list of quarantined areas. We are also removing portions of three counties from the list of quarantined areas because regular surveys have shown them to have been free of citrus canker for at least 2 years. These actions are necessary to prevent the spread of citrus canker into noninfested areas of the United States and to relieve restrictions that are no longer warranted.

Economic Analysis

Changes in the list of quarantined areas have the potential to affect marketing opportunities; however, previous analyses of changes to the regulations by adding or removing areas from quarantine have not found any measurable effect on producers or consumers.

In an interim rule published in the Federal Register on September 5, 2000 (65 FR 53528-53531, Docket No. 00-036-1), we amended the regulations by expanding existing quarantined areas and establishing new quarantined areas. This action represented a significant increase in the quarantined area at the time; however, it did not result in any measurable impact on producers or consumers.

In an interim rule published in the Federal Register on May 8, 2002 (67 FR 30769-30771, Docket No. 02-029-1), we amended the regulations by removing a 41-square-mile portion of Manatee County, FL, from the list of quarantined areas. This action did not result in any measurable impact on producers or consumers.

The presence of citrus canker in Florida threatens the citrus industry not only in Florida, but in potentially all U.S. citrus producing areas. Governmental involvement in eradicating a disease outbreak such as citrus canker benefits the unaffected industry in the United States. Citrus growers in the areas currently affected also benefit from the eradication of the disease. Without government-sponsored quarantine and eradication programs, it is unlikely that affected individuals on their own could or would provide sufficient control to prevent the spread of the disease. A recent University of Florida study (Hodges, et al., Economic Information Report 01-2, July 2001) estimated the value of Florida citrus to be $3.58 billion in sales of citrus juice and processed citrus products, and $494 million in sales of fresh citrus fruit. The value of total economic activities associated with the citrus industry was estimated to be $9.13 billion. Establishment of citrus canker in Florida would result in an estimated direct cost to the citrus industry of about $100 million per year. An estimated 140,000 acres of trees valued at $148 million would be abandoned. Loss of exports to countries that would not accept fruit from an area with citrus canker is estimated to be at least $55 million per year.

While it is theoretically possible that additions to a quarantined area could have an adverse effect on a producer within the quarantined area, the costs that would be imposed on the industry as a whole if the disease were to spread greatly outweigh the short-term costs incurred by those producers in a new quarantined area. The areas affected by this quarantine are small relative to the whole of the Florida citrus industry and therefore are unlikely to have any measurable impact.

Trees found to be positive for citrus canker in residential areas also lead to quarantine measures. Quarantines that encompass residential areas would not lead to an impact on commercial producers. The costs to the government of implementing and maintaining the quarantined areas are small compared to the benefits associated with preventing the further spread of this disease. In addition to more losses to producers, the spread of citrus canker would entail more Federal and State spending for eradication and compensation programs.

Impact on Small Entities

Most of the citrus producers in and around the quarantined area would qualify as small businesses under Small Business Administration (SBA) guidelines. The Regulatory Flexibility Act requires that Agencies specifically consider the economic effects associated with their rules on small entities. The SBA defines a firm engaged in agriculture as “small” if it has less than $750,000 in annual receipts.

Citrus producers in areas released from the quarantine will have greater choice of where to market their fruit. This will benefit producers by providing them with more alternatives. The benefits of removing the quarantine on an area, while positive, are likely to be small. Likewise, the effect of adding an area to a quarantine is also likely to be too small to measure through changes in producer or consumer surplus measures. Producer income or expenses are unlikely to be affected in a measurable way.

Removing areas from quarantine will not impose any costs on producers or on government entities. Adding areas to the quarantine may reduce marketing opportunities for some growers. The costs to the industry if citrus canker were to spread throughout Florida would potentially be very high.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are inconsistent with this rule; (2) has no retroactive effect; and (3) does not require administrative proceedings before parties may file suit in court challenging this rule.

National Environmental Policy Act

An environmental assessment and finding of no significant impact were prepared in April 1999 for the citrus canker eradication program. We have reviewed the environmental assessment and finding of no significant impact in light of the amendments made by this rule to the list of quarantined areas and have determined that the analysis and conclusions in those documents are still applicable. The assessment provides a basis for the conclusion that implementation of the citrus canker eradication program will not have a significant impact on the quality of the human environment.

The environmental assessment and finding of no significant impact were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment and finding of no significant impact may be viewed on the Internet at http://www.aphis.usda.gov/ppq/enviro_docs/cc.html. Copies of the environmental assessment and finding of no significant impact are also available for public inspection in our reading room. (Information on the location and hours of the reading room is provided under the heading ADDRESSES at the beginning of this interim rule). In addition, copies may be obtained by writing to the individual listed under FOR FURTHER INFORMATION CONTACT.

Paperwork Reduction Act

This rule contains no new information collection or recordkeeping requirements under the Paperwork Reduction Act of 1995 (44 U.S.C. 3501 et seq.).

Accordingly, we are amending 7 CFR part 301 as follows:

PART 301—DOMESTIC QUARANTINE NOTICES

1. The authority citation for part 301 continues to read as follows:

Authority: 7 U.S.C. 7701-7772; 7 CFR 2.22, 2.80, and 371.3.

Section 301.75-15 also issued under sec. 204, Title II, Pub. L. 106-113, 113 Stat. 1501A-293; sections 301.75-15 and 301.75-16 also issued under sec. 203, Title II, Pub. L. 106-224, 114 Stat. 400 (7 U.S.C. 1421 note).

2. In § 301.75-4, paragraph (a) is revised to read as follows:

§ 301.75-4 Quarantined areas.

(a) The following States or portions of States are designated as quarantined areas:

Florida

Broward, Miami-Dade, Monroe, and Palm Beach Counties. That portion of the counties bounded by a line drawn as follows: Beginning in Monroe County at the southeasternmost point of Key West; then northeast along the eastern side of the Florida Keys and north along the Atlantic coastline of Dade and Broward Counties to the Broward/Palm Beach County line; then north along the Atlantic coastline of Palm Beach County to the north end of Atlantic Dunes Park in Highland Beach in sec. 33, T. 46 S., R. 43 E.; then west to the Intracoastal Waterway; then south along the Intracoastal Waterway to the inlet of the C-15 Canal; then west along the C-15 Canal to Interstate 95; then south and southwest on Interstate 95 to Glades Road (State Road 808); then west on Glades Road (State Road 808) to the southeastern corner of sec. 15, T. 47 S., R. 41 E.; then west along the southern boundary of sec. 15, T. 47 S., R. 41 E. to the L-40 Canal; then west, southwest, and south along the L-40 Canal, crossing the Palm Beach/Broward County line, to the Sawgrass Expressway (State Road 869); then south on the Sawgrass Expressway (State Road 869) to Interstate 75; then west on Interstate 75 to U.S. Highway 27; then south on U.S. Highway 27 to Krome Avenue (NW. and SW. 177th Avenue); then southwest and south on Krome Avenue (NW. and SW. 177th Avenue) to U.S. Highway 41 (SW. 8th Street); then west on U.S. Highway 41 (SW. 8th Street) to the northwestern corner of sec. 11, T. 54 S., R. 38 E.; then south along the western boundaries of secs. 11, 14, 23, 26, 35, and 52, T. 54 S., R. 38 E. and secs. 2 and 11, T. 55 S., R. 38 E. to the southwestern corner of sec. 11, T. 55 S., R. 38 E.; then west along the northern boundaries of secs. 15 and 16, T. 55 S., R. 38 E. to the northwestern corner of sec. 16, T. 55 E., R. 38 E.; then south along western boundaries of secs. 16, 21, 28, and 33, T. 55 S., R. 38 E. and sec. 4, T. 56 S., R. 38 E. to the southwestern corner of sec. 4, T. 56 S., R. 38 E.; then west along the northern boundaries of secs. 8 and 7, T. 56 S., R. 38 E. to northwestern corner of sec. 7, T. 56 S., R. 38 E.; then south along the western boundaries of secs. 7, 18, 19, 30, and 31, T. 56 S., R. 38 E. to the southwestern corner of sec. 31, T. 56 S., R. 38 E.; then east along the southern boundary of sec. 31, T. 56 S., R. 38 E. to the L-31 N Canal; then south along the L-31 N Canal to the southwestern corner of sec. 8, T. 58 S., R. 38 E.; then south along the western boundaries of secs. 17, 20, 29, and 32, T. 58 S., R. 38 E. and secs. 5, 8, and 17, T. 59 S., R. 38 E. to the eastern boundary of the Everglades National Park; then east along the eastern boundary of the Everglades National Park to U.S. Highway 1; then southeast on U.S. Highway 1 to Jew Fish Creek at the Florida Keys; then south along the western shoreline of the Florida Keys to the southeasternmost point of Key West, the point of beginning.

DeSoto County. (1) DeSoto A quarantined area. That portion of the county bounded by a line drawn as follows: Beginning at the northeastern corner of sec. 22, T. 37 S., R. 25 E.; then south along the eastern boundaries of secs. 22 and 27, T. 37 S., R. 25 E. to Whiddon Branch; then south and southwest along Whiddon Branch to the southern boundary of sec. 27, T. 37 S., R. 25 E.; then west along the southern boundary of secs. 27 and 28, T. 37 S., R. 25 E.; then north along the western boundaries of secs. 28 and 21, T. 37 S., R. 25 E.; then east along the northern boundaries of secs. 21 and 22, T. 37 S., R. 25 E. to the point of beginning.

(2) DeSoto B quarantined area. That portion of the county bounded by a line drawn as follows: Beginning at the northeastern corner of sec. 16, T. 37 S., R. 26 E.; then south along the eastern boundary of sec. 16, T. 37 S., R. 26 E. to the southeastern corner of sec. 16, T. 37 S., R. 26 E.; then west along the southern boundary of sec. 16, T. 37 S., R. 26 E. for approximately 0.5 mile; then south into sec. 21, T. 37 S., R. 26 E. for approximately 0.5 mile; then west through secs. 21, 20, and 19, T. 37 S., R. 26 E. to the western boundary of sec. 19, T. 37 S., R. 26 E.; then north along the western boundaries of secs. 19 and 18, T. 37 S., R. 26 E. to the northeastern corner of sec. 18, T. 37 S., R. 26 E.; then east along the northern boundaries of secs. 18, 17, and 16, T. 37 S., R. 26 E. to the point of beginning.

(3) DeSoto C quarantined area. That portion of the county bounded by a line drawn as follows: Beginning at the northwestern corner of sec. 2, T. 38 S., R. 25 E.; then east along the northern boundary of sec. 2, T. 38 S., R. 25 E. to Walston Avenue; then south on Walston Avenue to Joshua Creek; then south and southwest along Joshua Creek to a point approximately 0.5 mile into sec. 9, T. 38 S., R. 25 E.; then north from that point through secs. 9 and 4, T. 38 S., R. 25 E. to the northern boundary of sec. 4, T. 38 S., R. 25 E.; then east along the northern boundary of sec. 4, T. 38 S., R. 25 E. to the southwestern corner of sec. 34, T. 37 S., R. 25 E.; then north along the western boundary of sec. 34, T. 37 S., R. 25 E. for approximately 0.25 mile; then east to the eastern boundary of sec. 34, T. 37 S., R. 25 E.; then south to the northwestern corner of sec. 2, T. 38 S., R. 25 E., the point of beginning.

(4) DeSoto D quarantined area. That portion of the county bounded by a line drawn as follows: Beginning at the northeastern corner of sec. 7, T. 38 S., R. 26 E.; then west along the northern boundary of sec. 7, T. 38 S., R. 26 E. to State Road 760; then north on State Road 760 to Joshua Creek; then west and southwest along Joshua Creek to the point where it intersects the northern boundary of sec. 12, T. 38 S., R. 25 E.; then south from that point to State Road 760; then southwest on State Road 760 to the western boundary of sec. 12, T. 38 S., R. 25 E.; then south along the western boundaries of secs. 12 and 13, T. 38 S., R. 25 E.; then east along the southern boundaries of secs. 13 and 18, T. 38 S., R. 26 E.; then north along the eastern boundaries of secs. 18 and 7, T. 38 S., R. 26 E. to the point of beginning.

Hendry County. (1) Sears quarantined area. That portion of the county bounded by a line drawn as follows: Beginning at the northeastern corner of Multiblocks (MB) 69, 70, 92, 98, and 154 in sec. 9, T. 44 S., R. 30 E.; then south to the northwestern corner of MB 16, 37, 46, 64, and 91; then east to the northeastern corner of MB 16, 37, 46, 64, and 91; then south to the southern boundary of MB 4, 46, 81, 84, 101, and 164; then west to the southeastern corner of MB 3, 45, 97, and 123; then south to the southern boundary of MB 4, 9, 21, 54, and 55 in sec. 16, T. 44 S., R. 30 E.; then west to the southwestern corner of MB 8, 22, 23, 39, 46, and 53; then southwest across Goodno Canal to the southeastern corner of MB 12, 15, 33, 36, 44, 45, and 82 in sec. 17, T. 44 S., R. 30 E.; then west to the southwestern corner of MB 10, 20, 48, 49, and 83; then north to the southern boundary of MB 30, 58, and 98 in sec. 8, T. 44 S., R. 30 E.; then west to a point on the southern boundary of MB 32, 57, 88, and 100 at longitude N. 26.66013, latitude W. -81.35380; then north to the southern boundary of MB 1, 39, 54, 70, and 124; then east to the southwestern corner of MB 16, 40, 55, 71, and 123; then north to the northwestern corner of MB 16, 40, 55, 71, and 123; then east to the northeastern corner of MB 3, 14, 52, 68, and 97; then northeast across the Goodno Canal to the northwestern corner of MB 12, 61, 67, 115, 116, 117, and 155 in sec. 9, T. 44 S., R. 30 E.; then east to the point of beginning.

(2) West Hendry quarantined area. That portion of the county described as follows: All of secs. 7, 8, 18, and 17, T. 47 S., R. 31 E.

Highlands County. Naranja quarantined area. That portion of the county described as follows: All of sec. 36, T. 36 S., R. 32 E.; secs. 31 and 32, T. 36 S., R. 33 E.; secs. 1, 12, and 13, T. 37 S., R. 32 E.; and secs. 6, 5, 4, 7, 8, 9, 18, 17, 16, 15, 21, and 22, T. 37 S., R. 33 E.

Highlands/De Soto Counties. Venus quarantined area. That portion of the county bounded by a line drawn as follows: Beginning in sec. 18, T. 39 S., R. 28 E. at the northwestern corner of SF Block A-1 on 11 Mile Grade Road; then south on 11 Mile Grade Road to Betty Drive; then west on Betty Drive to the northwestern corner of SP Block 111; then south along the western boundaries of SP Blocks 111, 109, 107, 105, 103, 101 to the southwestern corner of SP Block 101; then east along the southern boundaries of SP Blocks 101 and 102 to the southeastern corner of SP Block 102; then east along SP Block 102 to 11 Mile Grade Road; then south on 11 Mile Grade Road to the southwestern corner of SF Block L-1; then east along the southern boundaries (along canal) of SF Blocks L-1, L-2, L-3, and L-4 to the southeastern corner of SF Block L-4; then north along the eastern boundaries of SF Blocks L-4, K-4, J-4, and I-4 to the northeastern corner of SF Block I-4; then north through the retention pond to the southeastern corner of SF Block D-4 in sec. 16, T. 39 S., R. 28 E.; then north along the eastern boundaries of SF Blocks D-4 and C-4 to the northeastern corner of SF Block C-4; then west along the northern boundary of SF Block C-4 to the retention pond; then north along the western boundaries of SF Blocks B-5 and A-5 to the northern boundary of sec. 17, T. 39 S., R. 28 E.; then west along the northern boundaries of SF Blocks A-3, A-2, and A-1 to 11 Mile Grade Road, the point of beginning.

Lee County. (1) Cape Coral quarantined area. That portion of the county bounded by a line drawn as follows: Beginning at the intersection of the western shoreline of the Caloosahatchee River and the Plato Canal; then west along the Plato Canal to Del Prado Boulevard; then north on Del Prado Boulevard to northern side of 3616 Del Prado Boulevard; then west along the property line of 3616 Del Prado Boulevard to the Groton Canal; then west along the Groton Canal to the Rubicon Canal; then north along the Rubicon Canal to the Allegro Canal; then west along the Allegro Canal to 3523 Country Club Boulevard; then west along the southern side of 3523 Country Club Boulevard to Country Club Boulevard; then south on Country Club Boulevard to Wildwood Parkway; then west on Wildwood Parkway to Palm Tree Boulevard; then south on Palm Tree Boulevard to SE. 40th Street; then west on SE. 40th Street to Santa Barbara Boulevard; then south on Santa Barbara Boulevard to SW. 40th Street; then west on SW. 40th Street to Pelican Boulevard; then south on Pelican Boulevard to SW. 40th Terrace; then west on SW. 40th Terrace to SW. 5th Place; then south on SW. 5th Place to a point in Thunderbird Lake at longitude N. 26.555818, latitude W. −81.984898; then east from that point to SW. 49th Lane; then east on SW. 49th Lane to Pelican Boulevard; then south on Pelican Boulevard to longitude N. 26.54878, latitude W. −81.98239; then east from that point to longitude N. 26.54866, latitude W. −81.97834; then south from that point to the Caloosahatchee River; then north, east, and north along the Caloosahatchee River shoreline to the point of beginning.

(2) Pine Island quarantined area. That portion of the county bounded by a line drawn as follows: Beginning on the eastern Pine Island shoreline at a point on Cubles Drive at longitude N. 26.639400, latitude W. −82.106568; then south from that point along the eastern Pine Island shoreline to a point defined by longitude N. 26.619100, W. −82.105556; then west from that point to Birdsong Lane; then west on Birdsong Lane to Stringfellow Road; then north on Stringfellow Road to longitude N. 26.619628, latitude W. −82.118863; then west from that point to longitude N. 26.319436, latitude W. −82.123956; then north from that point to longitude N. 26.624970, latitude W. −82.123990; then west from that point to longitude N. 26.624978, latitude W. −82.124627; then north from that point to longitude N. 26.626005, latitude W. −82.124567; then west from that point to longitude N. 26.626088, latitude W. −82.125245; then north from that point to longitude N. 26.634922, latitude W. −82.125165; then east from that point to Harry Street; then north on Harry Street to longitude N. 26.649310, latitude W. −82.125209; then east from that point to Stringfellow Road; then north on Stringfellow Road to Sailfish Road; then east on Sailfish Road to Marlin Road; then north on Marlin Road to Porpoise Road; then east on Porpoise Road to Dolphin Road; then north on Dolphin Road to Tarpon Road; then east on Tarpon Road to a point on Cristi Way at longitude N. 26.638367, latitude W. −82.118612; then north from that point to longitude N. 26.638860, latitude W. −82.118562; then east from that point to a point on Sherwood Road at longitude N. 26.638865, latitude W. −82.109475; then north from that point to the intersection of Sherwood Road and Cubles Drive; then east on Cubles Drive to the point of beginning.

Manatee County. Duette quarantined area. That portion of the county bounded by a line drawn as follows: Beginning at the northeastern corner of sec. 26, T. 33 S., R. 21 E.; then south along the eastern boundary of sec. 26, T. 33 S., R. 21 E.; then east along the northern boundary of sec. 36, T. 33 S., R. 21 E.; then south along the eastern boundaries of sec. 36, T. 33 S., R. 21 E. and sec. 1, T. 34 S., R. 21 E.; then west along the southern boundaries of secs. 1, 2, and 3, T. 34 S., R. 21 E.; then north along the western boundaries of sec. 3, T. 34 S., R. 21 E. and secs. 34 and 27, T. 33 S., R. 21 E. to State Road 62; then east on State Road 62 to the northern boundary of sec. 26, T. 33 S., R. 21 E.; then east along the northern boundary of sec. 26, T. 33 S., R. 21 E. to the point of beginning.

Orange County. Orange County Nos. 2 and 3 quarantined areas. That portion of the county bounded by a line drawn as follows: Beginning at the intersection of Turkey Lake Road and Lake Marsha Drive; then south on Turkey Lake Road to Sand Lake Road; then west on Sand Lake Road to Apopka Vineland Road; then south on Apopka Vineland Road to Point Cypress Drive; then west on Point Cypress Drive to the point where Lone Tree Lane begins; then north to the shoreline of Lake Tibet; then northeast and north along the eastern shoreline of Lake Tibet to the tip of the peninsula north of Bay Point Drive; then east across Lake Tibet to the western side of 9151 Houston Place; then south, east, and north along the property line of 9151 Houston Place to Houston Place; then east on Houston Place to Masters Boulevard; then north on Masters Boulevard to Osprey Isle Lane; then north on Osprey Isle Lane to Bay Side Drive; then north on Bay Side Drive to Apopka Vineland Road; then south on Apopka Vineland Road to Palm Lake Drive; then east on Palm Lake Drive to Palm Lake Circle; then east on Palm Lake Circle to Palm Lake Drive; then east on Palm Lake Drive to Dr. Phillips Boulevard; then north on Dr. Phillips Boulevard to Pine Springs Drive; then east on Pine Springs Drive to Lake Marsha Drive; then northeast on Lake Marsha Drive to the point of beginning.

Palm Beach County. (1) Boynton Beach quarantined area. That portion of the county bounded by a line drawn as follows: Beginning at the eastern end of the Boynton Inlet at the Atlantic Ocean; then south along the Atlantic Ocean coastline to the eastern end of Briny Breezes Road; then west on Briny Breezes Road to its western end; then west to the shoreline of the Intracoastal Waterway; then west across the Intracoastal Waterway to 23rd Avenue; then west on 23rd Avenue to Interstate 95; then south on Interstate 95 to the L-30 Canal; then west along the L-30 Canal to Military Trail; then north on Military Trail to Woolbright Road; then east on Woolbright Road to Quail Covey Road; then north on Quail Covey Road to West Boynton Beach Boulevard; then east on West Boynton Beach Boulevard to Knuth Road; then north on Knuth Road to Old Boynton West Road; then north across Old Boynton West Road to Javertz Street; then north on Javertz Street to the Boynton Canal; then east along the Boynton Canal to the E-4 Canal; then north along the E-4 Canal to Hypoluxo Road; then east on Hypoluxo Road to its eastern end; then east to the shoreline of the Intracoastal Waterway; then south to the western end of the Boynton Inlet; then east along the Boynton Inlet to the point of beginning.

(2) West Palm Beach quarantined area. That portion of the county bounded by a line drawn as follows: Beginning at the western end of the Royal Park Bridge; then north along the western shoreline of the Intracoastal Waterway to the southern boundary of Gettler Park at 45th Street; then west on 45th Street to Interstate 95; then south on Interstate 95 to Okeechobee Boulevard; then east on Okeechobee Boulevard to Lakeview Avenue; then east on Lakeview Avenue to the point of beginning.

Sarasota County. Englewood quarantined area. That portion of the county bounded by a line drawn as follows: Beginning at the northeastern corner of sec. 13, T. 40 S., R. 19 E.; then south along the eastern boundaries of secs. 13, 24, and 25, T. 40 S., R. 19 E. to Artists Avenue; then west on Artists Avenue to Kilbourne Avenue; then north on Kilbourne Avenue to Ohio Avenue; then west on Ohio Avenue to the eastern shoreline of Lemon Bay; then north along the eastern shoreline of Lemon Bay to the western boundary of sec. 15, T. 40 S., R. 19 E. at Forked Creek.; then northwest and north along Forked Creek to Keyway Road; then east on Keyway Road to the northern boundary of sec. 13, T. 40 S., R. 19 E.; then east along the northern boundary of sec. 13, T. 40 S., R. 19 E. to the point of beginning.

* * * * *

Done in Washington, DC, this 8th day of September 2004.
Kevin Shea,
Acting Administrator, Animal and Plant Health Inspection Service.

[FR Doc. 04-20671 Filed 9-13-04; 8:45 am]

BILLING CODE 3410-34-P